ENVIRONMENTAL PROTECTION AGENCY

40 CFR Part 55

[OAR-2004-0091; FRL-7896-2]

Outer Continental Shelf Air Regulations Consistency Update for California

AGENCY: Environmental Protection Agency (“EPA”).

ACTION: Final rule—consistency update.

SUMMARY: EPA is finalizing the update of the Outer Continental Shelf (“OCS”) Air Regulations proposed in the Federal Register on June 23, 2004, July 31, 2003, January 13, 2003, August 16, 2002, April 12, 2002, January 22, 2002, June 28, 2001, December 11, 2000, and May 26, 2000. Requirements applying to OCS sources located within 25 miles of states' seaward boundaries must be updated periodically to remain consistent with the requirements of the corresponding onshore area (“COA”), as mandated by section 328(a)(1) of the Clean Air Act Amendments of 1990 (“the Act”). The portion of the OCS air regulations that is being updated pertains to the requirements for OCS sources for which the Santa Barbara County Air Pollution Control District, South Coast Air Quality Management District, and Ventura County Air Pollution Control District are the designated COAs. The intended effect of approving the requirements contained in “Santa Barbara County Air Pollution Control District Requirements Applicable to OCS Sources” (February, 2005), “South Coast Air Quality Management District Requirements Applicable to OCS Sources” (Part I, II and III) (February, 2005), and “Ventura County Air Pollution Control District Requirements Applicable to OCS Sources” (February, 2005) is to regulate emissions from OCS sources in accordance with the requirements onshore.

DATES: Effective Date: This action is effective May 18, 2005.

The incorporation by reference of certain publications listed in this rule is approved by the Director of the Federal Register as of May 18, 2005.

ADDRESSES: EPA has established a docket for this action under Docket ID No. 2004-0091. You can inspect copies of the administrative record for this action at EPA's Region IX office during normal business hours by appointment. You can inspect copies of the submitted rules by appointment at the following locations:

Environmental Protection Agency, Region IX, 75 Hawthorne Street, San Francisco, CA 94105.

Air and Radiation Docket and Information Center, U.S. Environmental Protection Agency, Room B-102, 1301 Constitution Avenue, NW., (Mail Code 6102T), Washington, DC 20460.

FOR FURTHER INFORMATION CONTACT: Christine Vineyard, Air Division, U.S. EPA Region IX, (415) 947-4125, vineyard.christine@epa.gov.

SUPPLEMENTARY INFORMATION:

I. Background

Table 1
Date of proposed rule | Federal Register citation
June 23, 2004 | 69 FR 34981
July 31, 2003 | 68 FR 44914
January 13, 2003 | 68 FR 1570
August 16, 2002 | 67 FR 53546
April 12, 2002 | 67 FR 17955
January 22, 2002 | 67 FR 2846
June 28, 2001 | 66 FR 34394
December 11, 2000 | 65 FR 77333
May 26, 2000 | 65 FR 34129

On the dates listed in Table 1, EPA proposed to approve requirements into the OCS Air Regulations pertaining to Santa Barbara County APCD, South Coast AQMD, Ventura County APCD, and State of California. These requirements are being promulgated in response to the submittal of rules from local air pollution control agencies. EPA has evaluated the proposed requirements to ensure that they are rationally related to the attainment or maintenance of Federal or State ambient air quality standards or part C of title I of the Act, that they are not designed expressly to prevent exploration and development of the OCS and that they are applicable to OCS sources. 40 CFR 55.1. EPA has also evaluated the rules to ensure that they are not arbitrary or capricious. 40 CFR 55.12(e). In addition, EPA has excluded administrative or procedural rules.

Section 328(a) of the Act requires that EPA establish requirements to control air pollution from OCS sources located within 25 miles of states' seaward boundaries that are the same as onshore requirements. To comply with this statutory mandate, EPA must incorporate applicable onshore rules into part 55 as they exist onshore. This limits EPA's flexibility in deciding which requirements will be incorporated into part 55 and prevents EPA from making substantive changes to the requirements it incorporates. As a result, EPA may be incorporating rules into part 55 that do not conform to all of EPA's state implementation plan (SIP) guidance or certain requirements of the Act. Consistency updates may result in the inclusion of state or local rules or regulations into part 55, even though the same rules may ultimately be disapproved for inclusion as part of the SIP. Inclusion in the OCS rule does not imply that a rule meets the requirements of the Act for SIP approval, nor does it imply that the rule will be approved by EPA for inclusion in the SIP.

A 30-day public comment period was provided in each Proposed Rule, and no comments were received.

II. EPA Action

In this document, EPA takes final action to incorporate the proposed changes into 40 CFR part 55. No changes were made to the Proposed Actions listed in table 1. EPA is approving the proposed actions as modified under section 328(a)(1) of the Act, 42 U.S.C. 7627. Section 328(a) of the Act requires that EPA establish requirements to control air pollution from OCS sources located within 25 miles of states' seaward boundaries that are the same as onshore requirements. To comply with this statutory mandate, EPA must incorporate applicable onshore rules into part 55 as they exist onshore.

III. Administrative Requirements

A. Executive Order 12866, Regulatory Planning and Review

The Office of Management and Budget (OMB) has exempted this regulatory action from Executive Order 12866, entitled “Regulatory Planning and Review.”

B. Paperwork Reduction Act

This rule does not impose an information collection burden under the provisions of the Paperwork Reduction Act of 1995 (44 U.S.C. 3501 et seq.)

C. Regulatory Flexibility Act

The Regulatory Flexibility Act (RFA) generally requires an agency to conduct a regulatory flexibility analysis of any rule subject to notice and comment rulemaking requirements unless the agency certifies that the rule will not have a significant economic impact on a substantial number of small entities. Small entities include small businesses, small not-for-profit enterprises, and small governmental jurisdictions.

This rule will not have a significant impact on a substantial number of small entities because SIP approvals under section 110 and subchapter I, part D of the Clean Air Act do not create any new requirements but simply approve requirements that the State is already imposing. Therefore, because the Federal SIP approval does not create any new requirements, I certify that this action will not have a significant economic impact on a substantial number of small entities.

Moreover, due to the nature of the Federal-State relationship under the Clean Air Act, preparation of flexibility analysis would constitute Federal inquiry into the economic reasonableness of state action. The Clean Air Act forbids EPA to base its actions concerning SIPs on such grounds. Union Electric Co., v. U.S. EPA, 427 U.S. 246, 255-66 (1976); 42 U.S.C. 7410(a)(2).

D. Unfunded Mandates Reform Act

Under sections 202 of the Unfunded Mandates Reform Act of 1995 (“Unfunded Mandates Act”), signed into law on March 22, 1995, EPA must prepare a budgetary impact statement to accompany any proposed or final rule that includes a Federal mandate that may result in estimated costs to State, local, or tribal governments in the aggregate; or to the private sector, of $100 million or more. Under section 205, EPA must select the most cost-effective and least burdensome alternative that achieves the objectives of the rule and is consistent with statutory requirements. Section 203 requires EPA to establish a plan for informing and advising any small governments that may be significantly or uniquely impacted by the rule.

EPA has determined that the approval action promulgated does not include a Federal mandate that may result in estimated costs of $100 million or more to either State, local, or tribal governments in the aggregate, or to the private sector. This Federal action approves pre-existing requirements under State or local law, and imposes no new requirements. Accordingly, no additional costs to State, local, or tribal governments, or to the private sector, result from this action.

E. Executive Order 13132, Federalism

Federalism (64 FR 43255, August 10, 1999) revokes and replaces Executive Orders 12612 (Federalism) and 12875 (Enhancing the Intergovernmental Partnership). Executive Order 13132 requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.” Under Executive Order 13132, EPA may not issue a regulation that has federalism implications, that imposes substantial direct compliance costs, and that is not required by statute, unless the Federal government provides the funds necessary to pay the direct compliance costs incurred by State and local governments, or EPA consults with State and local officials early in the process of developing the proposed regulation. EPA also may not issue a regulation that has federalism implications and that preempts State law unless the Agency consults with State and local officials early in the process of developing the proposed regulation.

This rule will not have substantial direct effects on the States, on the relationship between the national government and the States, or on the distribution of power and responsibilities among the various levels of government, as specified in Executive Order 13132, because it merely approves a State rule implementing a Federal standard, and does not alter the relationship or the distribution of power and responsibilities established in the Clean Air Act. Thus, the requirements of section 6 of the Executive Order do not apply to this rule.

F. Executive Order 13175, Coordination With Indian Tribal Governments

Executive Order 13175, entitled “Consultation and Coordination with Indian Tribal Governments” (65 FR 67249, November 9, 2000), requires EPA to develop an accountable process to ensure “meaningful and timely input by tribal officials in the development of regulatory policies that have tribal implications.” This final rule does not have tribal implications, as specified in Executive Order 13175. It will not have substantial direct effects on tribal governments, on the relationship between the Federal government and Indian tribes, or on the distribution of power and responsibilities between the Federal government and Indian tribes. Thus, Executive Order 13175 does not apply to this rule.

G. Executive Order 13045, Protection of Children From Environmental Health Risks and Safety Risks

Protection of Children from Environmental Health Risks and Safety Risks (62 FR 19885, April 23, 1997), applies to any rule that: (1) Is determined to be “economically significant” as defined under Executive Order 12866, and (2) concerns an environmental health or safety risk that EPA has reason to believe may have a disproportionate effect on children. If the regulatory action meets both criteria, the Agency must evaluate the environmental health or safety effects of the planned rule on children, and explain why the planned regulation is preferable to other potentially effective and reasonably feasible alternatives considered by the Agency.

This rule is not subject to Executive Order 13045 because it does not involve decisions intended to mitigate environmental health or safety risks.

H. Executive Order 13211, Actions That Significantly Affect Energy Supply, Distribution, or Use

This rule is not subject to Executive Order 13211, “Actions Concerning Regulations That Significantly Affect Energy Supply, Distribution, or Use” (66 FR 28355, May 22, 2001) because it is not a significant regulatory action under Executive Order 12866.

I. National Technology Transfer and Advancement Act

Section 12 of the National Technology Transfer and Advancement Act (NTTAA) of 1995 requires Federal agencies to evaluate existing technical standards when developing a new regulation. To comply with NTTAA, EPA must consider and use “voluntary consensus standards” (VCS) if available and applicable when developing programs and policies unless doing so would be inconsistent with applicable law or otherwise impractical.

The EPA believes that VCS are inapplicable to this action. Today's action does not require the public to perform activities conducive to the use of VCS.

J. Congressional Review Act

The Congressional Review Act, 5 U.S.C. section 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. section 804(2). This action will be effective May 18, 2005.

K. Petitions for Judicial Review

Under section 307(b)(1) of the Clean Air Act, petitions for judicial review of this action must be filed in the United States Court of Appeals for the appropriate circuit by June 17, 2005. Filing a petition for reconsideration by the Administrator of this final action does not affect the finality of this action for the purposes of judicial review nor does it extend the time within which a petition for judicial review may be filed, and shall not postpone the effectiveness of such rule or action. This action may not be challenged later in proceedings to enforce its requirements. (See section 307(b)(2).)

List of Subjects in 40 CFR Part 55

Environmental protection, Administrative practice and procedures, Air pollution control, Hydrocarbons, Incorporation by reference, Intergovernmental relations, Nitrogen dioxide, Nitrogen oxides, Outer Continental Shelf, Ozone, Particulate matter, Permits, Reporting and Recordkeeping requirements, Sulfur oxides.

Dated: March 25, 2005.
Laura Yoshii,
Acting Regional Administrator, Region IX.

Title 40 of the Code of Federal Regulations, part 55, is to be amended as follows:

PART 55—[AMENDED]

1. The authority citation for part 55 continues to read as follows:

Authority: Section 328 of the Clean Air Act (42 U.S.C. 7401 et seq.) as amended by Public Law 101-549.

2. Section 55.14 is amended by revising paragraphs (e)(3)(ii)(F), (e)(3)(ii)(G), and (e)(3)(ii)(H) to read as follows:

§ 55.14 Requirements that apply to OCS sources located within 25 miles of states seaward boundaries, by state.

* * * * *

(e) * * *

(3) * * *

(ii) * * *

(F) Santa Barbara County Air Pollution Control District Requirements Applicable to OCS Sources, February 2005.

(G) South Coast Air Quality Management District Requirements Applicable to OCS Sources (Part I, II and Part III), February 2005.

(H) Ventura County Air Pollution Control District Requirements Applicable to OCS Sources, February 2005.

* * * * *

3. Appendix A to CFR part 55 is amended by revising paragraphs (b)(6), (7), and (8) under the heading “California” to read as follows:

Appendix A to 40 CFR Part 55—Listing of State and Local Requirements Incorporated by Reference Into Part 55, by State

* * * * *

California

* * * * *

(b) Local Requirements

* * * * *

(6) The following requirements are containing in Santa Barbara County Air Pollution Control District Requirements Applicable to OCS Sources, February 2005:

Rule 102 Definition (Adopted 6/19/03)

Rule 103 Severability (Adopted 10/23/78)

Rule 106 Notice to Comply for Minor Violations (Adopted 7/15/99)

Rule 107 Emergencies (Adopted 4/19/01)

Rule 201 Permits Required (Adopted 4/17/97)

Rule 202 Exemptions to Rule 201 (Adopted 4/17/97)

Rule 203 Transfer (Adopted 4/17/97)

Rule 204 Applications (Adopted 4/17/97)

Rule 205 Standards for Granting Applications (Adopted 4/17/97)

Rule 206 Conditional Approval of Authority to Construct or Permit to Operate (Adopted 10/15/91)

Rule 207 Denial of Application (Adopted 10/23/78)

Rule 210 Fees (Adopted 4/17/97)

Rule 212 Emission Statements (Adopted 10/20/92)

Rule 301 Circumvention (Adopted 10/23/78)

Rule 302 Visible Emissions (Adopted 10/23/78)

Rule 304 Particulate Matter-Northern Zone (Adopted 10/23/78)

Rule 305 Particulate Matter Concentration-Southern Zone (Adopted 10/23/78)

Rule 306 Dust and Fumes-Northern Zone (Adopted 10/23/78)

Rule 307 Particulate Matter Emission Weight Rate-Southern Zone (Adopted 10/23/78)

Rule 308 Incinerator Burning (Adopted 10/23/78)

Rule 309 Specific Contaminants (Adopted 10/23/78)

Rule 310 Odorous Organic Sulfides (Adopted 10/23/78)

Rule 311 Sulfur Content of Fuels (Adopted 10/23/78)

Rule 312 Open Fires (Adopted 10/2/90)

Rule 316 Storage and Transfer of Gasoline (Adopted 4/17/97)

Rule 317 Organic Solvents (Adopted 10/23/78)

Rule 318 Vacuum Producing Devices or Systems-Southern Zone (Adopted 10/23/78)

Rule 321 Solvent Cleaning Operations (Adopted 9/18/97)

Rule 322 Metal Surface Coating Thinner and Reducer(Adopted 10/23/78)

Rule 323 Architectural Coatings (Adopted 11/15/01)

Rule 324 Disposal and Evaporation of Solvents (Adopted 10/23/78)

Rule 325 Crude Oil Production and Separation (Adopted 7/19/01)

Rule 326 Storage of Reactive Organic Liquid Compounds (Adopted 1/18/01)

Rule 327 Organic Liquid Cargo Tank Vessel Loading (Adopted 12/16/85)

Rule 328 Continuous Emission Monitoring (Adopted 10/23/78)

Rule 330 Surface Coating of Miscellaneous Metal Parts and Products (Adopted 1/20/00)

Rule 331 Fugitive Emissions Inspection and Maintenance (Adopted 12/10/91)

Rule 332 Petroleum Refinery Vacuum Producing Systems, Wastewater Separators and Process Turnarounds (Adopted 6/11/79)

Rule 333 Control of Emissions from Reciprocating Internal Combustion Engines (Adopted 4/17/97)

Rule 342 Control of Oxides of Nitrogen (NOX) from Boilers, Steam Generators and Process Heaters) (Adopted 4/17/97)

Rule 343 Petroleum Storage Tank Degassing (Adopted 12/14/93)

Rule 344 Petroleum Sumps, Pits, and Well Cellars (Adopted 11/10/94)

Rule 346 Loading of Organic Liquid Cargo Vessels (Adopted 01/18/01)

Rule 352 Natural Gas-Fired Fan-Type Central Furnaces and Residential Water Heaters (Adopted 9/16/99)

Rule 353 Adhesives and Sealants (Adopted 8/19/99)

Rule 359 Flares and Thermal Oxidizers (6/28/94)

Rule 360 Emissions of Oxides of Nitrogen from Large Water Heaters and Small Boilers (Adopted 10/17/02)

Rule 370 Potential to Emit—Limitations for Part 70 Sources (Adopted 6/15/95)

Rule 505 Breakdown Conditions Sections A., B.1, and D. only (Adopted 10/23/78)

Rule 603 Emergency Episode Plans (Adopted 6/15/81)

Rule 702 General Conformity (Adopted 10/20/94)

Rule 801 New Source Review (Adopted 4/17/97)

Rule 802 Nonattainment Review (Adopted 4/17/97)

Rule 803 Prevention of Significant Deterioration (Adopted 4/17/97)

Rule 804 Emission Offsets (Adopted 4/17/97)

Rule 805 Air Quality Impact Analysis and Modeling (Adopted 4/17/97)

Rule 808 New Source Review for Major Sources of Hazardous Air Pollutants (Adopted 5/20/99)

Rule 1301 Part 70 Operating Permits—General Information (Adopted 6/19/03)

Rule 1302 Part 70 Operating Permits—Permit Application (Adopted 11/09/93)

Rule 1303 Part 70 Operating Permits—Permits (Adopted 11/09/93)

Rule 1304 Part 70 Operating Permits—Issuance, Renewal, Modification and Reopening (Adopted 11/09/93)

Rule 1305 Part 70 Operating Permits—Enforcement (Adopted 11/09/93)

(7) The following requirements are contained in South Coast Air Quality Management District Requirements Applicable to OCS Sources (Part I, II and III), February 2005:

Rule 102 Definition of Terms (Adopted 10/19/01)

Rule 103 Definition of Geographical Areas (Adopted 1/9/76)

Rule 104 Reporting of Source Test Data and Analyses (Adopted 1/9/76)

Rule 108 Alternative Emission Control Plans (Adopted 4/6/90)

Rule 109 Recordkeeping for Volatile Organic Compound Emissions (Adopted 8/18/00)

Rule 112 Definition of Minor Violation and Guidelines for Issuance of Notice to Comply (Adopted 11/13/98)

Rule 118 Emergencies (Adopted 12/7/95)

Rule 201 Permit to Construct (Adopted 1/5/90)

Rule 201.1 Permit Conditions in Federally Issued Permits to Construct (Adopted 1/5/90)

Rule 202 Temporary Permit to Operate (Adopted 5/7/76)

Rule 203 Permit to Operate (Adopted 1/5/90)

Rule 204 Permit Conditions (Adopted 3/6/92)

Rule 205 Expiration of Permits to Construct (Adopted 1/5/90)

Rule 206 Posting of Permit to Operate (Adopted 1/5/90)

Rule 207 Altering or Falsifying of Permit (Adopted 1/9/76)

Rule 208 Permit and Burn Authorization for Open Burning (12/21/01)

Rule 209 Transfer and Voiding of Permits (Adopted 1/5/90)

Rule 210 Applications (Adopted 1/5/90)

Rule 212 Standards for Approving Permits (Adopted 12/7/95) except (c)(3) and (e)

Rule 214 Denial of Permits (Adopted 1/5/90)

Rule 217 Provisions for Sampling and Testing Facilities (Adopted 1/5/90)

Rule 218 Continuous Emission Monitoring (Adopted 5/14/99)

Rule 218.1 Continuous Emission Monitoring Performance Specifications (Adopted 5/14/99)

Rule 218.1 Attachment A—Supplemental and Alternative CEMS Performance Requirements (Adopted 5/14/99)

Rule 219 Equipment Not Requiring a Written Permit Pursuant to Regulation II (Adopted 5/19/00)

Rule 220 Exemption—Net Increase in Emissions (Adopted 8/7/81)

Rule 221 Plans (Adopted 1/4/85)

Rule 301 Permit Fees (Adopted 5/11/01) except (e)(7)and Table IV

Rule 304 Equipment, Materials, and Ambient Air Analyses (Adopted 5/11/01)

Rule 304.1 Analyses Fees (Adopted 5/11/01)

Rule 305 Fees for Acid Deposition (Adopted 10/4/91)

Rule 306 Plan Fees (Adopted 5/11/01)

Rule 309 Fees for Regulation XVI Plans (Adopted 5/11/01)

Rule 401 Visible Emissions (Adopted 11/9/01)

Rule 403 Fugitive Dust (Adopted 12/11/98)

Rule 404 Particulate Matter—Concentration (Adopted 2/7/86)

Rule 405 Solid Particulate Matter—Weight (Adopted 2/7/86)

Rule 407 Liquid and Gaseous Air Contaminants (Adopted 4/2/82)

Rule 408 Circumvention (Adopted 5/7/76)

Rule 409 Combustion Contaminants (Adopted 8/7/81)

Rule 429 Start-Up and Shutdown Provisions for Oxides of Nitrogen (Adopted 12/21/90)

Rule 430 Breakdown Provisions, (a) and (e) only (Adopted 7/12/96)

Rule 431.1 Sulfur Content of Gaseous Fuels (Adopted 6/12/98)

Rule 431.2 Sulfur Content of Liquid Fuels (Adopted 9/15/00)

Rule 431.3 Sulfur Content of Fossil Fuels (Adopted 5/7/76)

Rule 441 Research Operations (Adopted 5/7/76)

Rule 442 Usage of Solvents (Adopted 12/15/00)

Rule 444 Open Burning (Adopted 12/21/01)

Rule 463 Organic Liquid Storage (Adopted 3/11/94)

Rule 465 Vacuum Producing Devices or Systems (Adopted 8/13/99)

Rule 468 Sulfur Recovery Units (Adopted 10/8/76)

Rule 473 Disposal of Solid and Liquid Wastes (Adopted 5/7/76)

Rule 474 Fuel Burning Equipment—Oxides of Nitrogen (Adopted 12/4/81)

Rule 475 Electric Power Generating Equipment (Adopted 8/7/78)

Rule 476 Steam Generating Equipment (Adopted 10/8/76)

Rule 480 Natural Gas Fired Control Devices (Adopted 10/7/77) Addendum to Regulation IV (Effective 1977)

Rule 518 Variance Procedures for Title V Facilities (Adopted 8/11/95)

Rule 518.1 Permit Appeal Procedures for Title V Facilities (Adopted 8/11/95)

Rule 518.2 Federal Alternative Operating Conditions (Adopted 12/21/01)

Rule 701 Air Pollution Emergency Contingency Actions (Adopted 6/13/97)

Rule 702 Definitions (Adopted 7/11/80)

Rule 708 Plans (Rescinded 9/8/95)

Regulation IX New Source Performance Standards (Adopted 5/11/01)

Reg. X National Emission Standards for Hazardous Air Pollutants (NESHAPS) (Adopted 5/11/01)

Rule 1105.1 Reduction of PM10 and Ammonia Emissions From Fluid Catalytic Crackling Units (Adopted 11/7/03)

Rule 1106 Marine Coatings Operations (Adopted 1/13/95)

Rule 1107 Coating of Metal Parts and Products (Adopted 11/9/01)

Rule 1109 Emissions of Oxides of Nitrogen for Boilers and Process Heaters in Petroleum Refineries (Adopted 8/5/88)

Rule 1110 Emissions from Stationary Internal Combustion Engines (Demonstration) (Adopted 11/14/97)

Rule 1110.1 Emissions from Stationary Internal Combustion Engines (Adopted 10/4/85)

Rule 1110.2 Emissions from Gaseous- and Liquid Fueled Internal Combustion Engines (Adopted 11/14/97)

Rule 1113 Architectural Coatings (Amended 12/05/03)

Rule 1116.1 Lightering Vessel Operations—Sulfur Content of Bunker Fuel (Adopted 10/20/78)

Rule 1121 Control of Nitrogen Oxides from Residential-Type Natural Gas-Fired Water Heaters (Adopted 12/10/99)

Rule 1122 Solvent Degreasers (Adopted 12/06/02)

Rule 1123 Refinery Process Turnarounds (Adopted 12/7/90)

Rule 1125 Metal Containers, Closure, and Coil Coating Operations (1/13/95)

Rule 1129 Aerosol Coatings (Adopted 3/8/96)

Rule 1132 Further Control of VOC Emissions from High-Emitting Spray Booth Facilities (Adopted 1/19/01)

Rule 1134 Emissions of Oxides of Nitrogen from Stationary Gas Turbines (Adopted 8/8/97)

Rule 1136 Wood Products Coatings (Adopted 6/14/96)

Rule 1137 PM10 Emission Reductions from Woodworking Operations (Adopted 2/01/02)

Rule 1140 Abrasive Blasting (Adopted 8/2/85)

Rule 1142 Marine Tank Vessel Operations (Adopted 7/19/91)

Rule 1146 Emissions of Oxides of Nitrogen from Industrial, Institutional, and Commercial Boilers, Steam Generators, and Process Heaters (Adopted 11/17/00)

Rule 1146.1 Emission of Oxides of Nitrogen from Small Industrial, Institutional, and Commercial Boilers, Steam Generators, and Process Heaters (Adopted 5/13/94)

Rule 1146.2 Emissions of Oxides of Nitrogen from Large Water Heaters and Small Boilers (Adopted 1/9/98)

Rule 1148 Thermally Enhanced Oil Recovery Wells (Adopted 11/5/82)

Rule 1149 Storage Tank Degassing (Adopted 7/14/95)

Rule 1162 Polyester Resin Operations (Amended 07/11/03)

Rule 1168 Adhesive and Sealant Applications (Amended 10/3/03)

Rule 1171 Solvent Cleaning Operations (Amended 11/7/03)

Rule 1173 Fugitive Emissions of Volatile Organic Compounds (Adopted 12/06/02)

Rule 1176 VOC Emissions from Wastewater Systems (Adopted 9/13/96)

Rule 1178 Further Reductions of VOC Emissions from Storage Tanks at Petroleum Facilities (Adopted 12/21/01)

Rule 1301 General (Adopted 12/7/95)

Rule 1302 Definitions (Adopted 12/06/02)

Rule 1303 Requirements (Adopted 12/06/02)

Rule 1304 Exemptions (Adopted 6/14/96)

Rule 1306 Emission Calculations (Adopted 12/06/02)

Rule 1313 Permits to Operate (Adopted 12/7/95)

Rule 1403 Asbestos Emissions from Demolition/Renovation Activities (Adopted 4/8/94)

Rule 1605 Credits for the Voluntary Repair of On-Road Vehicles Identified Through Remote Sensing Devices (Adopted 10/11/96)

Rule 1610 Old-Vehicle Scrapping (Adopted 2/12/99)

Rule 1612 Credits for Clean On-Road Vehicles (Adopted 7/10/98)

Rule 1612.1 Mobile Source Credit Generation Pilot Program (Adopted 3/16/01)

Rule 1620 Credits for Clean Off-Road Mobile Equipment (Adopted 7/10/98)

Rule 1701 General (Adopted 8/13/99)

Rule 1702 Definitions (Adopted 8/13/99)

Rule 1703 PSD Analysis (Adopted 10/7/88)

Rule 1704 Exemptions (Adopted 8/13/99)

Rule 1706 Emission Calculations (Adopted 8/13/99)

Rule 1713 Source Obligation (Adopted 10/7/88)

Regulation XVII Appendix (effective 1977)

Rule 1901 General Conformity (Adopted 9/9/94)

Rule 2000 General (Adopted 5/11/01)

Rule 2001 Applicability (Adopted 2/14/97)

Rule 2002 Allocations for Oxides of Nitrogen (NOX) and Oxides of Sulfur (SOX) Emissions (Adopted 5/11/01)

Rule 2004 Requirements (Adopted 5/11/01) except (l)

Rule 2005 New Source Review for RECLAIM (Adopted 4/20/01) except (i)

Rule 2006 Permits (Adopted 5/11/01)

Rule 2007 Trading Requirements (Adopted 5/11/01)

Rule 2008 Mobile Source Credits (Adopted 10/15/93)

Rule 2010 Administrative Remedies and Sanctions (Adopted 5/11/01)

Rule 2011 Requirements for Monitoring, Reporting, and Recordkeeping for Oxides of Sulfur (SOx) Emissions (Adopted 5/11/01)

Appendix A Volume IV—(Protocol for Oxides of Sulfur) (Adopted 3/10/95)

Rule 2012 Requirements for Monitoring, Reporting, and Recordkeeping for Oxides of Nitrogen (NOX) Emissions (Adopted 5/11/01)

Appendix A Volume V—(Protocol for Oxides of Nitrogen) (Adopted 3/10/95)

Rule 2015 Backstop Provisions (Adopted 5/11/11) except (b)(1)(G) and (b)(3)(B)

Rule 2020 RECLAIM Reserve (Adopted 5/11/01)

Rule 2100 Registration of Portable Equipment (Adopted 7/11/97)

Rule 2506 Area Source Credits for NOX and SOX (Adopted 12/10/99)

XXX Title V Permits

Rule 3000 General (Adopted 11/14/97)

Rule 3001 Applicability (Adopted 11/14/97)

Rule 3002 Requirements (Adopted 11/14/97)

Rule 3003 Applications (Adopted 3/16/01)

Rule 3004 Permit Types and Content (Adopted 12/12/97)

Rule 3005 Permit Revisions (Adopted 3/16/01)

Rule 3006 Public Participation (Adopted 11/14/97)

Rule 3007 Effect of Permit (Adopted 10/8/93)

Rule 3008 Potential To Emit Limitations (3/16/01)

XXXI Acid Rain Permit Program (Adopted 2/10/95)

(8) The following requirements are contained in Ventura County Air Pollution Control District Requirements Applicable to OCS Sources, February 2005:

Rule 2 Definitions (Adopted 4/13/04)

Rule 5 Effective Date (Adopted 4/13/04)

Rule 6 Severability (Adopted 11/21/78)

Rule 7 Zone Boundaries (Adopted 6/14/77)

Rule 10 Permits Required (Adopted 4/13/04)

Rule 11 Definition for Regulation II (Adopted 6/13/95)

Rule 12 Application for Permits (Adopted 6/13/95)

Rule 13 Action on Applications for an Authority to Construct (Adopted 6/13/95)

Rule 14 Action on Applications for a Permit to Operate (Adopted 6/13/95)

Rule 15.1 Sampling and Testing Facilities (Adopted 10/12/93)

Rule 16 BACT Certification (Adopted 6/13/95)

Rule 19 Posting of Permits (Adopted 5/23/72)

Rule 20 Transfer of Permit (Adopted 5/23/72)

Rule 23 Exemptions from Permits (Revised 4/13/04)

Rule 24 Source Recordkeeping, Reporting, and Emission Statements (Adopted 9/15/92)

Rule 26 New Source Review (Adopted 10/22/91)

Rule 26.1 New Source Review—Definitions (Adopted 5/14/02)

Rule 26.2 New Source Review—Requirements (Adopted 5/14/02)

Rule 26.3 New Source Review—Exemptions (Adopted 5/14/02)

Rule 26.6 New Source Review—Calculations (Adopted 5/14/02)

Rule 26.8 New Source Review—Permit To Operate (Adopted 10/22/91)

Rule 26.10 New Source Review—PSD (Adopted 1/13/98)

Rule 26.11 New Source Review—ERC Evaluation At Time of Use (Adopted 5/14/02)

Rule 28 Revocation of Permits (Adopted 7/18/72)

Rule 29 Conditions on Permits (Adopted 10/22/91)

Rule 30 Permit Renewal (Adopted 4/13/04)

Rule 32 Breakdown Conditions: Emergency Variances, A., B.1., and D. only. (Adopted 2/20/79)

Rule 33 Part 70 Permits—General (Adopted 10/12/93)

Rule 33.1 Part 70 Permits—Definitions (Adopted 4/10/01)

Rule 33.2 Part 70 Permits—Application Contents (Adopted 4/10/01)

Rule 33.3 Part 70 Permits—Permit Content (Adopted 4/10/01)

Rule 33.4 Part 70 Permits—Operational Flexibility (Adopted 4/10/01)

Rule 33.5 Part 70 Permits—Time Frames for Applications, Review and Issuance (Adopted 10/12/93)

Rule 33.6 Part 70 Permits—Permit Term and Permit Reissuance (Adopted 10/12/93)

Rule 33.7 Part 70 Permits—Notification (Adopted 4/10/01)

Rule 33.8 Part 70 Permits—Reopening of Permits (Adopted 10/12/93)

Rule 33.9 Part 70 Permits—Compliance Provisions (Adopted 4/10/01)

Rule 33.10 Part 70 Permits—General Part 70 Permits (Adopted 10/12/93)

Rule 34 Acid Deposition Control (Adopted 3/14/95)

Rule 35 Elective Emission Limits (Adopted 11/12/96)

Rule 36 New Source Review—Hazardous Air Pollutants (Adopted 10/6/98)

Rule 42 Permit Fees (Adopted 4/13/04)

Rule 44 Exemption Evaluation Fee (Adopted 9/10/96)

Rule 45 Plan Fees (Adopted 6/19/90)

Rule 45.2 Asbestos Removal Fees (Adopted 8/4/92)

Rule 47 Source Test, Emission Monitor, and Call-Back Fees (Adopted 6/22/99)

Rule 50 Opacity (Adopted 4/13/04)

Rule 52 Particulate Matter-Concentration (Adopted 4/13/04)

Rule 53 Particulate Matter-Process Weight (Adopted 4/13/04)

Rule 54 Sulfur Compounds (Adopted 6/14/94)

Rule 56 Open Burning (Revised 11/11/03)

Rule 57 Combustion Contaminants-Specific (Adopted 6/14/77)

Rule 62.7 Asbestos—Demolition and Renovation (Adopted 6/16/92)

Rule 63 Separation and Combination of Emissions (Adopted 11/21/78)

Rule 64 Sulfur Content of Fuels (Adopted 4/13/99)

Rule 67 Vacuum Producing Devices (Adopted 7/5/83)

Rule 68 Carbon Monoxide (Adopted 4/13/04)

Rule 71 Crude Oil and Reactive Organic Compound Liquids (Adopted 12/13/94)

Rule 71.1 Crude Oil Production and Separation (Adopted 6/16/92)

Rule 71.2 Storage of Reactive Organic Compound Liquids (Adopted 9/26/89)

Rule 71.3 Transfer of Reactive Organic Compound Liquids (Adopted 6/16/92)

Rule 71.4 Petroleum Sumps, Pits, Ponds, and Well Cellars (Adopted 6/8/93)

Rule 71.5 Glycol Dehydrators (Adopted 12/13/94)

Rule 72 New Source Performance Standards (NSPS) (Adopted 4/10/01)

Rule 73 National Emission Standards for Hazardous Air Pollutants (NESHAPS (Adopted 04/10/01)

Rule 74 Specific Source Standards (Adopted 7/6/76)

Rule 74.1 Abrasive Blasting (Adopted 11/12/91)

Rule 74.2 Architectural Coatings (Adopted 11/13/01)

Rule 74.6 Surface Cleaning and Degreasing (Revised 11/11/03—effective 7/1/04)

Rule 74.6.1 Batch Loaded Vapor Degreasers ( Adopted 11/11/03—effective 7/1/04)

Rule 74.7 Fugitive Emissions of Reactive Organic Compounds at Petroleum Refineries and Chemical Plants (Adopted 10/10/95)

Rule 74.8 Refinery Vacuum Producing Systems, Waste-water Separators and Process Turnarounds (Adopted 7/5/83)

Rule 74.9 Stationary Internal Combustion Engines (Adopted 11/14/00)

Rule 74.10 Components at Crude Oil Production Facilities and Natural Gas Production and Processing Facilities (Adopted 3/10/98)

Rule 74.11 Natural Gas-Fired Residential Water Heaters-Control of NOX (Adopted 4/9/85)

Rule 74.11.1 Large Water Heaters and Small Boilers (Adopted 9/14/99)

Rule 74.12 Surface Coating of Metal Parts and Products (Adopted 11/11/03)

Rule 74.15 Boilers, Steam Generators and Process Heaters (Adopted 11/8/94)

Rule 74.15.1 Boilers, Steam Generators and Process Heaters (Adopted 6/13/00)

Rule 74.16 Oil Field Drilling Operations (Adopted 1/8/91)

Rule 74.20 Adhesives and Sealants (Adopted 9/9/03)

Rule 74.23 Stationary Gas Turbines (Adopted 1/08/02)

Rule 74.24 Marine Coating Operations (Revised 11/11/03)

Rule 74.24.1 Pleasure Craft Coating and Commercial Boatyard Operations (Adopted 1/08/02)

Rule 74.26 Crude Oil Storage Tank Degassing Operations (Adopted 11/8/94)

Rule 74.27 Gasoline and ROC Liquid Storage Tank Degassing Operations (Adopted 11/8/94)

Rule 74.28 Asphalt Roofing Operations (Adopted 5/10/94)

Rule 74.30 Wood Products Coatings (Revised 11/11/03)

Rule 75 Circumvention (Adopted 11/27/78)

Rule 101 Sampling and Testing Facilities (Adopted 5/23/72)

Rule 102 Source Tests (Adopted 4/13/04)

Rule 103 Continuous Monitoring Systems (Adopted 2/9/99)

Rule 154 Stage 1 Episode Actions (Adopted 9/17/91)

Rule 155 Stage 2 Episode Actions (Adopted 9/17/91)

Rule 156 Stage 3 Episode Actions (Adopted 9/17/91)

Rule 158 Source Abatement Plans (Adopted 9/17/91)

Rule 159 Traffic Abatement Procedures (Adopted 9/17/91)

Rule 220 General Conformity (Adopted 5/9/95)

Rule 230 Notice to Comply (Adopted 11/9/99)

* * * * *

[FR Doc. 05-7574 Filed 4-15-05; 8:45 am]

BILLING CODE 6560-50-P